DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-045

Applicant: Department of Molecular Physiology and Biophysics, College of Medicine, HSFR Building, 149 Beaumont Avenue, Burlington, VT 05401.

Instrument: Electron Microscope, Model Morgagni 268

Manufacturer: FEI Company, Czech Republic.

Intended Use: The instrument is intended to be used to examine and photograph high-resolution digital images of the anatomical, physiological and pathological structures and processes of samples from a broad range of tissue specimens. The images can be conveniently stored for future use or shared with other researchers via the Internet. Application accepted by Commissioner of Customs: October 18, 2005.

Gerald A. Zerdy,
Program Manager, Statutory Import Programs Staff.

[FR Doc. 05-23458 Filed 11-28-05; 8:45 am]

BILLING CODE 3510-DS-P